DEPARTMENT OF COMMERCE

National Oceanic and Atmospheric Administration

Cancellation of Marine Protected Areas Federal Advisory Committee Meeting

AGENCY: National Ocean Service, NOAA, Department of Commerce.

ACTION: Notice of meeting cancellation.

SUMMARY: Notice is hereby given that the meeting of the Marine Protected Areas Federal Advisory Committee (MPAFAC), which was to be held November 1-3, 2005, in Corpus Christi, Texas is cancelled (Federal Register, v.70, No. 191, p. 57863-57864). Notice of the rescheduled date will be published in the Federal Register and posted on http://www.mpa.gov.

FOR FURTHER INFORMATION CONTACT: Lauren Wenzel, Designated Federal Officer, MPAFAC, National Marine Protected Areas Center, 1305 East-West Highway, Silver Spring, Maryland, 20910. Phone: (Phone: 301-713-3100 x136, Fax: 301-713-3110); email: lauren.wenzel@noaa.gov; or visit the National MPA Center Web site at http://www.mpa.gov).

Dated: October 26, 2005.
Eldon Hout,
Director, Office of Ocean and Coastal Resource Management.

[FR Doc. 05-21816 Filed 11-1-05; 8:45 am]

BILLING CODE 3510-08-P